NATIONAL SCIENCE FOUNDATION

Business and Operations Advisory Committee Meeting

In accordance with the Federal Advisory Committee Act (Pub. L. 92-463, as amended), the National Science Foundation announces the following meeting:

Name: Business and Operations Advisory Committee (9556).

Date/Time: May 11, 2016; 1:00 p.m. to 5:30 p.m. (EST) May 12, 2016; 9:00 a.m. to 12:00 p.m. (EST).

Place: National Science Foundation, 4201 Wilson Boulevard, Arlington, Virginia 22230; Stafford I, Room 1235.

Type of Meeting: Open.

Contact Person: Patty Balanga, National Science Foundation, 4201 Wilson Boulevard, Arlington, VA 22230; (703) 292-8100.

Purpose of Meeting: To provide advice concerning issues related to the oversight, integrity, development and enhancement of NSF's business operations.

Agenda

Wednesday, May 11, 2016; 1:00 p.m.-5:30 p.m.

Welcome/Introductions; BFA/OIRM Updates; Enterprise Risk Management; From Systems to Data and Beyond; Benchmarking; Recommendations of the National Academy of Public Administration (NAPA) Study of NSF's Use of Cooperative Agreements to Support Large Scale Investments in Science and Technology.

Thursday, May 12, 2016; 9:00 a.m.-12:00 p.m.

Modernization of Business Processes and Workforce Structures: A Discussion of Lessons Learned; Discussion with Chief Operating Officer; Meeting Wrap-Up.

Dated: April 13, 2016.
Crystal Robinson,
Committee Management Officer.

[FR Doc. 2016-08867 Filed 4-15-16; 8:45 am]

BILLING CODE 7555-01-P